DEPARTMENT OF COMMERCE

International Trade Administration

[A-583-854]

Certain Steel Nails From Taiwan: Final Results of Antidumping Duty Administrative Review and Determination of No Shipments; 2017-2018

AGENCY: Enforcement and Compliance, International Trade Administration, U.S. Department of Commerce.

SUMMARY: The Department of Commerce (Commerce) determines that Liang Chyuan Industrial Co., Ltd. and its affiliate Integral Building Products Inc. (collectively, LC), PT Enterprise, Inc. and its affiliated producer Pro-Team Coil Nail Enterprise, Inc. (collectively, PT), and Unicatch Industrial Co. Ltd. (Unicatch), made U.S. sales of subject merchandise below normal value during the period of review (POR) July 1, 2017 through June 30, 2018.

DATES: Applicable March 13, 2020.

FOR FURTHER INFORMATION CONTACT: Irene Gorelik, Suzanne Lam, or Joseph Dowling, AD/CVD Operations, Office VIII, Enforcement and Compliance, International Trade Administration, Department of Commerce, 1401 Constitution Avenue NW, Washington, DC 20230; telephone: (202) 482-6905, (202) 482-0783, or (202) 482-1646, respectively.

SUPPLEMENTARY INFORMATION:

Background

On September 12, 2019, Commerce published the Preliminary Results of this administrative review.¹ For a discussion of the events that occurred since the Preliminary Results, see the Issues and Decision Memorandum.² On December 16, 2019, we partially extended the deadline for the final results to February 19, 2020.³ On January 30, 2020, Commerce fully extended the final results deadline until March 10, 2020.⁴

¹ See Certain Steel Nails from Taiwan: Preliminary Results of Antidumping Duty Administrative Review; 2017-2018, 84 FR 48116 (September 12, 2019) and accompanying Preliminary Decision Memorandum (Preliminary Results).

² See Memorandum, “Issues and Decision Memorandum for the Final Results of the Antidumping Duty Administrative Review: Certain Steel Nails from Taiwan; 2017-2018” (Issues and Decision Memorandum), dated concurrently with, and hereby adopted by, this notice.

³ See Memorandum, “Certain Steel Nails from Taiwan: Extension of Deadline for Final Results of Antidumping Duty Administrative Review,” dated December 16, 2019.

⁴ See Memorandum, “Certain Steel Nails from Taiwan: Second Extension of Deadline for Final Results of Antidumping Duty Administrative Review,” dated January 30, 2020.

Scope of the Order ⁵

The merchandise covered by this order is certain steel nails. The certain steel nails subject to the order are currently classifiable under HTSUS subheadings 7317.00.55.02, 7317.00.55.03, 7317.00.55.05, 7317.00.55.07, 7317.00.55.08, 7317.00.55.11, 7317.00.55.18,

⁵ See Certain Steel Nails from the Republic of Korea, Malaysia, the Sultanate of Oman, Taiwan, and the Socialist Republic of Vietnam: Antidumping Duty Orders, 80 FR 39994 (July 13, 2015) (Order).

7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this order also may be classified under HTSUS subheadings 7907.00.60.00, 8206.00.00.00 or other HTSUS subheadings. While the HTSUS subheadings are provided for convenience and customs purposes, the written description of the scope of this order is dispositive. For a complete description of the scope of the order, see the Issues and Decision Memorandum.⁶

⁶ See Issues and Decision Memorandum.

Analysis of Comments Received

In the Issues and Decision Memorandum, we addressed all issues raised in parties' case and rebuttal briefs. In the Appendix to this notice, we provide a list of the issues raised by parties. The Issues and Decision Memorandum is a public document and is on file electronically via Enforcement and Compliance's Antidumping and Countervailing Duty Centralized Electronic Service System (ACCESS). ACCESS is available to registered users at https://access.trade.gov and in the Central Records Unit (CRU), room B8024 of the main Commerce building. In addition, a complete version of the Issues and Decision Memorandum can be accessed directly on the internet at http://enforcement.trade.gov/frn/index.html. The signed Issues and Decision Memorandum and the electronic version of the Issues and Decision Memorandum are identical in content.

Final Determination of No Shipments

Commerce received timely no-shipment certifications from six companies.⁷ Commerce inadvertently omitted from the Preliminary Results a preliminary determination of no shipments regarding these companies. However, Commerce issued a no-shipment inquiry to U.S. Customers and Border Protection (CBP) on November 2, 2018.⁸ CBP responded that it did not find any shipments of subject merchandise from these six companies.⁹ Further, we received no comments regarding the no-shipment certifications of these six companies or the CBP response to our inquiry. Accordingly, because the record contains no evidence to the contrary, we find that these six companies made no shipments of subject merchandise during the POR. Accordingly, consistent with Commerce's practice, we will instruct CBP to liquidate any existing entries of subject merchandise produced by these six companies, but exported by other parties, at the rate for the intermediate reseller, if available, or at the all-others rate.

⁷ See certifications of no shipments filed by: (1) Astrotech Steels Private Limited, dated October 5, 2018; (2) Jinhai Hardware Co., Ltd., dated October 10, 2018; (3) Region System SDN BHD, Region Industries Co., Ltd., and Region International Co., Ltd., dated October 10, 2018; and (4) Synn Industrial Co., Ltd., dated October 4, 2018.

⁸ See Memorandum to the File, “No Shipment Inquiry Response from CBP,” dated November 9, 2018 (ACCESS Barcode 3776435-01), citing to Commerce's No Shipment Inquiry Message Number 8306301.

⁹ Id.

Changes Since the Preliminary Results

Based on our review of the record and comments received from interested parties, we made certain changes to the Preliminary Results. Specifically, we made adjustments to the antidumping margin calculations for the mandatory respondents. As a result, we also revised the rate applicable to those companies for which a review was requested but which were not individually reviewed. For a full discussion of these changes, see the Issues and Decision Memorandum.

Final Results of the Administrative Review

We have determined the following weighted-average dumping margins for the firms listed below for the period July 1, 2017 through June 30, 2018:

Exporter/producer | Weighted-average dumping margin (percent)
Liang Chyuan Industrial Co., Ltd./Integral Building Products Inc | 2.54
PT Enterprise, Inc./Pro-Team Coil Nail Enterprise, Inc | 6.72
Unicatch Industrial Co. Ltd | 27.69
Review-Specific Average Rate Applicable to the Following Companies: ¹⁰
Hor Liang Industrial Corp | 12.90
Romp Coil Nail Industries Inc | 12.90

Assessment Rates

Pursuant to section 751(a)(2)(A) of the Act and 19 CFR 351.212(b)(1), Commerce will determine, and U.S. Customs and Border Protections (CBP) shall assess, antidumping duties on all appropriate entries of subject merchandise in accordance with the final results of this review. Commerce intends to issue assessment instructions to CBP 15 days after the date of publication of the final results of this administrative review in the Federal Register.

For any individually examined respondent whose weighted-average dumping margin is above de minimis (i.e., 0.50 percent), Commerce will calculate importer-specific assessment rates on the basis of the ratio of the total amount of dumping calculated for the importer's examined sales and the total entered value of sales. Where we do not have entered values for all U.S. sales to a particular importer/customer, we will calculate a per-unit assessment rate by aggregating the antidumping duties due for all U.S. sales to that importer (or customer) and dividing this amount by the total quantity sold to that importer (or customer).¹¹ To determine whether the duty assessment rates are de minimis, in accordance with the requirement set forth in 19 CFR 351.106(c)(2), we calculate importer- (or customer-) specific ad valorem ratios based on the estimated entered value. Where either a respondent's weighted-average dumping margin is zero or de minimis, or an importer- (or customer-) specific ad valorem rate is zero or de minimis, we will instruct CBP to liquidate appropriate entries without regard to antidumping duties.¹²

¹⁰ This rate is based on the weighted-average of the margins calculated for those companies selected for individual review. See Memorandum, “Calculation of the Review-Specific Weighted-Average Rate for the Final Results,” dated concurrently with this notice.

¹¹ See 19 CFR 351.212(b)(1).

¹² See 19 CFR 352.106(c)(2); see also Antidumping Proceeding: Calculation of the Weighted-Average Dumping Margin and Assessment Rate in Certain Antidumping Proceedings; Final Modification, 77 FR 8101, 8103 (February 14, 2012) (Final Modification for Reviews).

For the companies which were not selected for individual review, we will assign an assessment rate based on the weighted-average of the dumping margins calculated for PT, Unicatch, and LC. As indicated above, for each company which we determined had “no shipments” of the subject merchandise during the POR, we will instruct CBP to liquidate all POR entries associated with these companies at the all-others rate if there is no rate for the intermediate company(ies) involved in the transaction, consistent with Commerce's reseller policy.¹³

¹³ For a full discussion of this practice, see Antidumping and Countervailing Duty Proceedings: Assessment of Antidumping Duties, 68 FR 23954 (May 6, 2003).

For entries of subject merchandise during the POR produced by each respondent for which it did not know its merchandise was destined for the United States, we will instruct CBP to liquidate such entries at the all-others rate if there is no rate for the intermediate company(ies) involved in the transaction. The final results of this review shall be the basis for the assessment of antidumping duties on entries of merchandise covered by the final results of this review and for future deposits of estimated duties, where applicable.¹⁴

¹⁴ See section 751(a)(2)(C) of the Act.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other manufacturers or exporters will continue to be 2.16 percent, the all-others rate in

the LTFV investigation.¹⁵ These cash deposit requirements, when imposed, shall remain in effect until further notice.

¹⁵ The all-others rate from the underlying investigation was revised in Certain Steel Nails from Taiwan: Notice of Court Decision Not in Harmony with Final Determination in Less than Fair Value Investigation and Notice of Amended Final Determination, 82 FR 55090, 55091 (November 20, 2017).

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a final reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: March 9, 2020.
Jeffrey I. Kessler,
Assistant Secretary for Enforcement and Compliance.

Appendix

List of Topics Discussed in the Issues and Decision Memorandum

I. Summary

II. Background

III. Scope of the Order

IV. Changes Since the Preliminary Results

V. Discussion of the Issues

A. Issues Pertaining to LC

Comment 1: Whether to Apply Adverse Facts Available (AFA)

Comment 2: Treatment of Resales of Subject Merchandise Produced by Unaffiliated Suppliers

Comment 3: Third Country Credit Expense Calculation

Comment 4: Packing Services Cost Calculation

Comment 5: Claimed Scrap Offset

B. Issues Pertaining to Unicatch

Comment 6: Home Market Viability

Comment 7: Calculation of CV Profit Ratio

Comment 8: Calculation of Freight Revenue Cap

Comment 9: Treatment of Commissions

Comment 10: Comparison of Brads and DA Nails to Other Nails

Comment 11: Calculation of Interest and General and Administrative Expenses

Comment 12: Cost of Manufacturing Adjustment

C. Issues Pertaining to PT

Comment 13: Calculation of CV Profit Ratio

Comment 14: Treatment of Certain Line Items in Financial Statements as G&A Expenses

VI. Recommendation

[FR Doc. 2020-05183 Filed 3-12-20; 8:45 am]

BILLING CODE 3510-DS-P